DEPARTMENT OF AGRICULTURE

Submission for OMB Review; Comment Request; Reinstatement

The Department of Agriculture has submitted the following information collection requirement(s) to OMB for review and reinstatement under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques and other forms of information technology.

Comments regarding this information collection received by April 22, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Agricultural Marketing Service

Title: Tart Cherries Grown in the States of MI, NY, PA, OR, UT, WA, and WI.

OMB Control Number: 0581-0177.

Summary of Collection: Marketing Order No. 930 (7 CFR part 930) regulates the handling of tart cherries grown in Michigan, New York, Pennsylvania, Oregon, Utah, Washington and Wisconsin. The Agricultural Marketing Agreement Act of 1937 authorizes the promulgation and amendment of marketing orders for certain agricultural commodities and the issuance of regulations thereof for the purpose of providing orderly marketing conditions in interstate and intrastate commerce and for improving returns to producers. The primary objective of the Order is to stabilize the supply of tart cherries. Only tart cherries that will be canned or frozen will be regulated. The Order is administered by an 18-member Board comprised of producers, handlers and one public member, plus alternates for each. The members will serve for a three-year term of office.

Need and Use of the Information: Various forms were developed by the Board for persons to file required information relating to tart cherry inventories, shipments, diversions and other needed information to effectively carry out the requirements of the Order. The information collected is used to ensure compliance, verify eligibility, and vote on amendments, monitor and record grower's information. Authorized Board employees and the industry are the primary users of the information. If information were not collected, it would eliminate needed data to keep the industry and the Secretary abreast of changes at the State and local level.

Description of Respondents: Business or other for profit; not-for-profit institutions.

Number of Respondents: 640.

Frequency of Responses: Reporting: Annually; Quarterly; On occasion.

Total Burden Hours: 741.

Agricultural Marketing Service

Title: AMS Grant Programs.

OMB Control Number: 0581-0240.

Summary of Collection: In 2016, OMB approved 0581-0240 which combined five grant programs (1) the Federal-State Marketing Improvement Program (FSMIP), (2) the Farmers Market, (3) the Local Food Promotion Program (FMLFPP), (4) the Specialty Crop Multi-State Program (SCMP), and (5) the Specialty Crop Block Grant Program (SCBGP) into a single collection package entitled AMS Grant Programs. This renewal request is to extend AMS' current approval to collect information for these five grant programs and to add four additional grant programs to this collection. The four new grant programs are the Dairy Business Innovation (DBI) Initiatives, Regional Food System Partnerships (RFSP), the Sheep Production and Marketing Grant Program (SPMGP), and the Acer Access and Development Program (Acer).

All the grant programs are authorized pursuant to the Agricultural Marketing Act (AMA) of 1946 (7 U.S.C. 1621, et seq.) and the Farmer-to-Consumer Direct Marketing Act of 1976 (7 U.S.C. 3001) are implemented through the Uniform Administrative Requirements, Cost Principles, and Audit Requirements for Federal Awards (Super Circular) (2 CFR 200).

Need and Use of the Information: The information collected is needed to certify that grant participants are complying with applicable program regulations, and the data collected are the minimum information necessary to effectively carry out the requirements of the program. The information collection requirements in this request are essential to carry out the intent of the AMA, to provide the respondents the type of service they request, and for AMS to administer these programs. The purpose of AMS Grant Programs is to provide grants to eligible entities. Without the required information, AMS will not be able to review, award, reimburse, or monitor grants to eligible applicants.

Description of Respondents: State, local or Tribal government.

Number of Respondents: 5,367.

Frequency of Responses: Recordkeeping; Reporting: Annually; Semi-annually.

Total Burden Hours: 24,469.

Levi S. Harrell,
Departmental Information Collection Clearance Officer.

[FR Doc. 2024-06060 Filed 3-21-24; 8:45 am]

BILLING CODE 3410-02-P